DEPARTMENT OF HOMELAND SECURITY

Coast Guard

33 CFR Part 117

[Docket No. USCG-2011-0566]

Drawbridge Operation Regulation; Cape Fear River, and Northeast Cape Fear River, in Wilmington, NC

AGENCY: Coast Guard, DHS.

ACTION: Notice of temporary deviation from regulations.

SUMMARY: The Commander, Fifth Coast Guard District, has issued a temporary deviation from the regulation governing the operation of the Cape Fear River Memorial Bridge across the Cape Fear River, mile 26.8, and the Isabel S. Holmes Bridge across Northeast Cape Fear River, at mile 1.0, both in Wilmington, NC. The deviation restricts the operation of the draw spans to accommodate the 29th Annual Wilmington Family YMCA Tri-Span race.

DATES: This deviation is effective from 7 a.m. to 9 a.m. on July 9, 2011.

ADDRESSES: Documents mentioned in this preamble as being available in the docket are part of the docket USCG-2011-0566 and are available online by going to http://www.regulations.gov, inserting USCG-2011-0566 in the “Keywords” box, and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal Holidays.

FOR FURTHER INFORMATION CONTACT: If you have questions on this rule, call or e-mail Mr. Waverly W. Gregory, Jr., Bridge Program Manager, Fifth Coast Guard District; telephone 757-398-6222, e-mail Waverly.W.Gregory@uscg.mil. If you have questions on viewing the docket, call Renne V. Wright, Program Manager, Docket Operations, (202) 366-9826.

SUPPLEMENTARY INFORMATION: The Wilmington Family YMCA, on behalf of the North Carolina Department of Transportation, who owns and operates the Cape Fear River Memorial Bridge across the Cape Fear River, mile 26.8, and the Isabel S. Holmes Bridge across Northeast Cape Fear River, at mile 1.0, both in Wilmington, NC, requested a temporary deviation from the current operating schedules to accommodate the 29th Annual Wilmington Family YMCA Tri-Span race scheduled for July 9, 2011.

The Cape Fear Memorial Bridge is a vertical-lift drawbridge with a vertical clearance of 65 feet above mean high water in the closed position to vessels and the Isabel S. Holmes Bridge is a double-leaf bascule drawbridge with a vertical clearance of 40 feet above mean high water in the closed position to vessels.

Under the regular operating schedules during the requested period for the Cape Fear Memorial Bridge and the Isabel S. Holmes Bridge, the draws need not open for the passage of vessels from 8 a.m. to 10 a.m. on the second Saturday of July of every year set out at 33 CFR 117.823 and at 33 CFR 117.829(a)(4), respectively.

Due to the extreme high temperatures expected for Saturday July 9, 2011 (the second Saturday of July 2011), the Wellness Director for the Wilmington Family YMCA requested to change the closure times to vessels for the aforementioned drawbridges from 8 a.m. to 10 a.m. to 7 a.m. to 9 a.m.

Under this temporary deviation, the drawbridges will be closed to vessels from 7 a.m. to 9 a.m. on Saturday July 9, 2011.

Typical vessel traffic on the Cape Fear River and Northeast Cape Fear River includes a variety of vessels from freighters, tug and barge traffic, and recreational vessels. Vessels that can pass under the bridges without a bridge opening may continue to do so at anytime.

The Coast Guard has carefully coordinated the restrictions with commercial and recreational waterway users. The Coast Guard will use Local and Broadcast Notice to Mariners to inform all users of the waterways of the closure periods for the bridges so that vessels can arrange their transits to minimize any impacts caused by the temporary deviation.

In accordance with 33 CFR 117.35(e), the draw must return to its regular operating schedule immediately at the end of the designated time period.

This deviation from the operating regulations is authorized under 33 CFR 117.35.

Dated: June 23, 2011.
By direction of the Commander.
Waverly W. Gregory, Jr.,
Bridge Program Manager, Fifth Coast Guard District.

[FR Doc. 2011-16915 Filed 7-5-11; 8:45 am]

BILLING CODE 9110-04-P